DEPARTMENT OF HEALTH AND HUMAN SERVICES

Health Resources and Services Administration

Agency Information Collection Activities: Submission to OMB for Review and Approval; Public Comment Request; Nurse Corps Scholarship Program, OMB No. 0915-0301—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than September 29, 2025.

ADDRESSES: Written comments and recommendations for the proposed information collection should be sent within 30 days of publication of this notice to www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION:

Information Collection Request Title: Nurse Corps Scholarship Program, OMB No. 0915-0301—Revision.

Abstract: The Nurse Corps Scholarship Program (Nurse Corps SP), administered by HRSA, provides scholarships to nursing students in exchange for a minimum 2-year full-time service commitment (or part-time equivalent), at an eligible health care facility with a critical shortage of nurses (i.e., Critical Shortage Facility [CSF]). The scholarship consists of payment of tuition, fees, other reasonable educational costs, and a monthly support stipend. Program recipients are required to fulfill Nurse Corps SP service commitments at CSFs located in the 50 states, the District of Columbia, Guam, the Commonwealth of Puerto Rico, the Northern Mariana Islands, the U.S. Virgin Islands, American Samoa, the Federated States of Micronesia, the Republic of the Marshall Islands, and the Republic of Palau.

A 60-day notice published in the Federal Register on June 11, 2025, vol. 90, No. 111; pp. 24635-36. There were no public comments.

Need and Proposed Use of the Information: The Nurse Corps SP collects data to determine an applicant's eligibility for the program, monitor a participant's continued enrollment in a school of nursing, monitor the participant's compliance with the Nurse Corps SP service obligation, and prepare annual reports to Congress. The following information will be collected: (1) from the applicants to determine their eligibility—an application form consisting of personal (such as proof of citizenship, references, and personal essay), financial (such as the Student Aid Index), and educational information (including verification of acceptance and good standing, tuition costs, and transcripts); (2) from the schools, on a quarterly basis—general applicant and nursing school data such as full name, location, tuition/fees, and enrollment status; (3) from the schools, on an annual basis—data concerning tuition/fees and overall student enrollment status; and (4) from the participants and their employing CSF on a biannual basis—data concerning the participant's employment status, work schedule, and leave usage.

There will be minor changes to this information collection, including replacing “gender” with “sex” and a discontinuation of the collection of resumes within the application as they are not used to determine eligibility.

Likely Respondents: Nurse Corps SP applicants, participants who are in school, graduates, educational institutions, and CSFs.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Nurse Corps Scholarship Program Application | 3,300 | 1 | 3,300 | 2.00 | 6,600
School Enrollment Verification Form | 600 | 2 | 1,200 | 0.33 | 396
Confirmation of Interest Form | 200 | 1 | 200 | 0.20 | 40
Data Collection Worksheet Form | 600 | 1 | 600 | 1.00 | 600
Graduation Close Out Form | 200 | 1 | 200 | 0.17 | 34
Employment Verification Form | 500 | 2 | 1,000 | 0.42 | 420
In-Service Verification Form | 1,000 | 2 | 2,000 | 0.12 | 240
Verification of Acceptance Form | 3,300 | 2 | 6,600 | 0.33 | 2,178
Authorization to Release Information Form | 3,300 | 1 | 3,300 | 0.20 | 660
Total | 13,000 |  | 18,400 |  | 11,168

Maria G. Button,
Director, Executive Secretariat.

[FR Doc. 2025-16458 Filed 8-27-25; 8:45 am]

BILLING CODE 4165-15-P